DEPARTMENT OF TRANSPORTATION

Federal Aviation Administration

14 CFR Part 39

[Docket No. FAA-2009-0261; Directorate Identifier 2009-CE-017-AD]

RIN 2120-AA64

Airworthiness Directives; DORNIER LUFTFAHRT GmbH Models Dornier 228-100, Dornier 228-101, Dornier 228-200, Dornier 228-201, Dornier 228-202, and Dornier 228-212 Airplanes

AGENCY: Federal Aviation Administration (FAA), Department of Transportation (DOT).

ACTION: Supplemental notice of proposed rulemaking (NPRM); extension of the comment period.

SUMMARY: We are revising an earlier NPRM for the products listed above. This proposed AD results from mandatory continuing airworthiness information (MCAI) originated by an aviation authority of another country to identify and correct an unsafe condition on an aviation product. The MCAI describes the unsafe condition as:

Excessive wear on a guide pin of a power lever has been detected during inspections. The total loss of the pin could cause loss of the flight idle stop and lead to inadvertent activation of the beta mode in flight. The inadvertent activation of beta mode in flight can result in loss of control of the airplane.

The proposed AD would require actions that are intended to address the unsafe condition described in the MCAI.

DATES: We must receive comments on this proposed AD by May 26, 2009.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone (800) 647-5527) is in the ADDRESSES section. Comments will be available in the AD docket shortly after receipt.

FOR FURTHER INFORMATION CONTACT: Greg Davison, Aerospace Engineer, FAA, Small Airplane Directorate, 901 Locust, Room 301, Kansas City, Missouri 64106; telephone: (816) 329-4130; fax: (816) 329-4090.

SUPPLEMENTARY INFORMATION:

Comments Invited

We invite you to send any written relevant data, views, or arguments about this proposed AD. Send your comments to an address listed under the ADDRESSES section. Include “Docket No. FAA-2009-0261; Directorate Identifier 2009-CE-017-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We proposed to amend 14 CFR part 39 with an earlier NPRM for the specified products, which was published in the Federal Register on March 25, 2009 (74 FR 12737). That earlier NPRM proposed to require actions intended to address the unsafe condition for the products listed above.

Since that NPRM was issued, we realized our interpretation of the initial compliance time was different than that in the MCAI and service bulletin based on differences between the FAA's regulatory authority and that of the State of Design. In particular, the FAA does not specifically mandate inspections at 9,600 hours time-in-service (TIS) and at 1,200-hour TIS intervals without issuing an AD. The intent of the MCAI was based on these inspection intervals being mandatory. Therefore, the following should be incorporated into the NPRM:

• Those airplanes that did not have the guide pins inspected within 9,600 hours TIS should be inspected within 100 hours TIS;

• Those airplanes with more than 1,200 hours TIS since the last inspection and that have not had the pins replaced since that inspection should have the inspection done again within 100 hours TIS;

• All airplanes should be inspected at intervals not to exceed 1,200 hours TIS, unless the pins are replaced; and

• Replacement of the pins would allow 9,600 hours TIS before a follow-on inspection.

Relevant Service Information

RUAG Aerospace Defence Technology has issued Dornier 228 Alert Service Bulletin ASB-228-279, dated December 19, 2008. The actions described in this service information are intended to correct the unsafe condition identified in the MCAI.

FAA's Determination and Requirements of the Proposed AD

This product has been approved by the aviation authority of another country, and is approved for operation in the United States. Pursuant to our bilateral agreement with this State of Design Authority, they have notified us of the unsafe condition described in the MCAI and service information referenced above. We are proposing this AD because we evaluated all information and determined the unsafe condition exists and is likely to exist or develop on other products of the same type design.

Certain changes described above expand the scope of the earlier NPRM. As a result, we have determined that it is necessary to extend the comment period to provide additional opportunity for the public to comment on the proposed AD.

Differences Between This Proposed AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a NOTE within the proposed AD.

Costs of Compliance

Based on the service information, we estimate that this AD will affect 17 products of U.S. registry. We also estimate that it would take about 20 work-hours per product to comply with the basic requirements of this proposed AD. The average labor rate is $80 per work-hour. Required parts would cost about $10 per product.

Based on these figures, we estimate the cost of the proposed AD on U.S. operators to be $27,370, or $1,610 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

DORNIER LUFTFAHRT GmbH: Docket No. FAA-2009-0261; Directorate Identifier 2009-CE-017-AD.

Comments Due Date

(a) We must receive comments by May 26, 2009.

Affected ADs

(b) None.

Applicability

(c) This AD applies to Models Dornier 228-100, Dornier 228-101, Dornier 228-200, Dornier 228-201, Dornier 228-202, and Dornier 228-212 airplanes, all serial numbers, certificated in any category.

Subject

(d) Air Transport Association of America (ATA) Code 76: Engine Controls.

Reason

(e) The mandatory continuing airworthiness information (MCAI) states:

Excessive wear on a guide pin of a power lever has been detected during inspections. The total loss of the pin could cause loss of the flight idle stop and lead to inadvertent activation of the beta mode in flight. The inadvertent activation of beta mode in flight can result in loss of control of the airplane.

For the reasons described above, this new EASA Airworthiness Directive (AD) introduces a repetitive detailed inspection of the guide pins of the power and condition levers and requires the replacement of the pins that exceed the allowable wear-limits.

Actions and Compliance

(f) Do the following actions per the instructions in RUAG Aerospace Defence Technology Dornier 228 Alert Service Bulletin ASB-228-279, dated December 19, 2008:

(1) Initial Inspection: Unless already done within the last 1,200 hours TIS as of the effective date of this AD, inspect upon accumulating 9,600 hours on the guide pins of the power and condition levers or within the next 100 hours TIS after the effective date of this AD, whichever occurs later.

(2) Repetitive Inspections: Inspect within 1,200 hours since the last inspection required by paragraph (f)(1) of this AD and thereafter at intervals not to exceed 1,200 hours TIS.

(3) Replacement: Replace the guide pins as follows:

(i) Before further flight, after any inspection required in paragraphs (f)(1) or (f)(2) of this AD, where any guide pin exceeds the acceptable wear-limits as defined in the service bulletin; and

(ii) Prior to any required inspection, you may install new power and condition levers guide pins instead of doing the inspections required in this AD. You must then inspect or install new pins upon accumulating 9,600 hours TIS and follow the repetitive inspection intervals of this AD if replacement is not made.

Note 1: If the hours TIS of the throttle box assembly is unknown, you may use the hours TIS of the airplane to determine the compliance time for the inspection.

FAA AD Differences

Note 2: This AD differs from the MCAI and/or service information as follows: No differences.

Other FAA AD Provisions

(g) The following provisions also apply to this AD:

(1) Alternative Methods of Compliance (AMOCs): The Manager, Standards Office, FAA, has the authority to approve AMOCs for this AD, if requested using the procedures found in 14 CFR 39.19. Send information to ATTN: Greg Davison, Aerospace Engineer, FAA, Small Airplane Directorate, 901 Locust, Room 301, Kansas City, Missouri 64106; telephone: (816) 329-4130; fax: (816) 329-4090. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(h) Refer to MCAI EASA AD No.: 2009-0031, dated February 18, 2009; and RUAG Aerospace Defence Technology Dornier 228 Alert Service Bulletin ASB-228-279, dated December 19, 2008, for related information.

Issued in Kansas City, Missouri, on April 16, 2009.
Kim Smith,
Manager, Small Airplane Directorate, Aircraft Certification Service.

[FR Doc. E9-9327 Filed 4-22-09; 8:45 am]

BILLING CODE 4910-13-P